DEPARTMENT OF TRANSPORTATION

Office of the Secretary

[OST Docket No. 2005-20490]

Air Carrier Access Act Aircraft Inspection and Certification Initiative

AGENCY: Office of the Secretary, Department of Transportation (DOT).

ACTION: Notice.

SUMMARY: Beginning on March 7, 2005, the Federal Aviation Administration (FAA) will be assisting the Office of the Secretary (OST) in verifying that the aircraft accessibility requirements of the Air Carrier Access Act (ACAA) and its implementing regulations, 14 CFR Part 382 (Part 382), are being met by U.S. certificated and commuter air carriers. FAA inspectors, in the normal course of their duties, will be performing on-site inspections of U.S. airline aircraft that are subject to the design requirements of the ACAA and Part 382, which prohibit discrimination against disabled air travelers in air transportation. The FAA will also take steps to verify that these requirements are met when new aircraft enter the U.S. airline fleet.

FOR FURTHER INFORMATION CONTACT: Blane A. Workie, Office of the General Counsel, 400 7th Street, SW., Room 4116, Washington, DC 20590, (202) 366-9342 (voice), (202) 366-7152 (Fax), blane.workie@ost.dot.gov (e-mail). Arrangements to obtain the notice in an alternative format may be made by contacting the above-named individuals.

SUPPLEMENTARY INFORMATION: Full compliance with the mandates of Part 382 is a priority of the Department of Transportation (Department or DOT). Part 382 is intended to promote accessibility and prohibit discrimination for air travelers with disabilities. This notice concerns those portions of Part 382 that require that carriers order or modify aircraft to improve accessibility. The requirements regarding aircraft accessibility are covered by 14 CFR 382.21.

The requirements of § 382.21 are tied to the number of seats or aisles on an aircraft. They apply to all aircraft operated under 14 CFR part 121 ordered after the effective date of Part 382 (April 5, 1990) or delivered to an air carrier after April 5, 1992. Part 121 contains the FAA's rules on air carrier certification and the operation of large aircraft by carriers certificated under that Part. Section 382.21 requires carriers to provide:

(1) Movable armrests on at least one half of the aisle seats on aircraft with 30 or more seats (382.21(a)(1));

(2) A priority storage area for a passenger's folding wheelchair on aircraft with 100 or more seats (382.21(a)(2));

(3) An accessible lavatory on aircraft with more than one aisle (382.21(a)(3)); and

(4) A carrier-supplied on-board wheelchair in certain instances (382.21(a)(4) and (b)(2)).

The rule does not require retrofitting of aircraft that were in service on or before the effective date of the rule with the following two exceptions: first, a carrier must, under certain conditions, provide an on-board wheelchair on aircraft with more than 60 seats (see 382.21(a)(4) and 382.21(b)(2)), effective April 5, 1992; second, under 382.21(c), if an aircraft operated under Part 121 undergoes a cabin refurbishment in which seating, lavatories, or other cabin interior elements are replaced, the aircraft, once renovated, must meet the requirements with respect to armrests and lavatories, or the replaced elements (e.g., in-cabin stowage areas) as specified in 382.21(a).

The Department wishes to ascertain the current compliance status of air carriers with respect to these requirements. The Department's Office of the Assistant General Counsel for Aviation Enforcement and Proceedings (Enforcement Office) began several investigations into compliance with section 382.21 in 2002, and most of these investigations have culminated in consent orders assessing civil penalties and requiring that air carriers take action to comply with the requirements of section 382.21. The Enforcement Office continues to investigate air carriers that it believes may be operating aircraft that are non-compliant. However, in addition to the continued enforcement efforts, the Department believes that having FAA inspectors check new aircraft being added to carrier fleets as well as aircraft already in service that are subject to the rule, in connection with their regular air carrier safety monitoring activities, would assist in ensuring that air carriers fulfill their nondiscrimination and accessibility responsibilities towards passengers with disabilities.

It is important to note that the FAA's involvement would be limited to conducting inspections to verify that aircraft meet the ACAA and Part 382 design requirements. Enforcement responsibilities with regard to the ACAA and Part 382 would remain in the Enforcement Office. The results of the FAA inspections of aircraft would be forwarded to the Enforcement Office for follow-up with the airlines involved in instances where it appears that the carrier's aircraft may not be in compliance with the ACAA and Part 382.

Issued this 24th day of February 2005, in Washington DC.
Jeffrey A. Rosen,
General Counsel, U.S. Department of Transportation.

[FR Doc. 05-4296 Filed 3-4-05; 8:45 am]

BILLING CODE 4910-62-P